DEPARTMENT OF COMMERCE

Foreign-Trade Zones Board

[B-86-2016]

Foreign-Trade Zone (FTZ) 38—Spartanburg County, South Carolina; Notification of Proposed Production Activity; Black & Decker (U.S.) Inc.; Subzone 38E, (Power Tools), Fort Mill, South Carolina

Black & Decker (U.S.) Inc. (Black & Decker) submitted a notification of proposed production activity to the FTZ Board for its facility in Fort Mill, South Carolina, within Subzone 38E. The notification conforming to the requirements of the regulations of the FTZ Board (15 CFR 400.22) was received on December 15, 2016.

Black & Decker already has authority to produce power tools and their parts and components, the packaging and kitting of power tools, and the repair and rework of power tools, parts and accessories within Subzone 38E. The current request would add finished products and foreign-status materials/components to the scope of authority. Pursuant to 15 CFR 400.14(b), additional FTZ authority would be limited to the specific foreign-status materials/components and specific finished products described in the submitted notification (as described below) and subsequently authorized by the FTZ Board.

Production under FTZ procedures could exempt Black & Decker from customs duty payments on the foreign-status materials/components used in export production. On its domestic sales, Black and Decker would be able to choose the duty rates during customs entry procedures that apply to: tube expander tools; pavement breakers; crimping tools; cable cutters; caulk guns; grease guns; sink augers—cordless; drain snakes; impact wrenches; anvil subassemblies; front end mechanisms/subassemblies; nose cone subassemblies; housing subassemblies; transmission assemblies for power tools; electronic control and motor subassemblies; bulk packed motors; lasers; and, laser detectors (duty rates range from free to 3.3%) for the foreign-status materials/components noted below and in the existing scope of authority. Customs duties also could possibly be deferred or reduced on foreign-status production equipment.

The materials/components sourced from abroad include: plastic hoses and couplers; steel pipe plugs; copper washers; machined pump housings; sink augers; grease guns; cordless crimping tools; cordless cable cutters; cordless caulk guns; steel thrust rings; impactors; expansion heads; drum covers (steel, aluminum or plastic); subassemblies—outer drum; inner drums (steel, aluminum or plastic); pump housing assemblies; purge valves; valve bodies; valve plungers; cam carriers; motors; bulk packed motors; modules for drain augers/snakes—electronic; LED housings with LED lights; safety glasses; rotary lasers, lasers; and, laser detectors (duty rates range from free to 3.3%).

Public comment is invited from interested parties. Submissions shall be addressed to the FTZ Board's Executive Secretary at the address below. The closing period for their receipt is February 7, 2017.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: December 22, 2016.
Andrew McGilvray,
Executive Secretary.

[FR Doc. 2016-31617 Filed 12-28-16; 8:45 am]

BILLING CODE 3510-DS-P